DEPARTMENT OF THE INTERIOR

Bureau of Safety and Environmental Enforcement

[Docket ID BSEE-2015-0005; OMB Control Number 1014-0024; 15XE1700DX EEEE500000 EX1SF0000.DAQ000]

Information Collection Activities: Plans and Information; Submitted for Office of Management and Budget (OMB) Review; Comment Request

ACTION: 30-Day Notice.

SUMMARY: To comply with the Paperwork Reduction Act of 1995 (PRA), the Bureau of Safety and Environmental Enforcement (BSEE) is notifying the public that we have submitted to OMB an information collection request (ICR) to renew approval of the paperwork requirements in the regulations under subpart B, Plans and Information. This notice also provides the public a second opportunity to comment on the revised paperwork burden of these regulatory requirements.

DATES: You must submit comments by October 2, 2015.

ADDRESSES: Submit comments by either fax (202) 395-5806 or email (OIRA_Submission@omb.eop.gov) directly to the Office of Information and Regulatory Affairs, OMB, Attention: Desk Officer for the Department of the Interior (1014-0024). Please provide a copy of your comments to BSEE by any of the means below.

• Electronically go to http://www.regulations.gov. In the Search box, enter BSEE-2015-0005 then click search. Follow the instructions to submit public comments and view all related materials. We will post all comments.

• Email cheryl.blundon@bsee.gov, fax (703) 787-1546, or mail or hand-carry comments to the Department of the Interior; Bureau of Safety and Environmental Enforcement; Regulations and Standards Branch; ATTN: Cheryl Blundon; 45600 Woodland Road, Sterling, VA 20166. Please reference ICR 1014-0024 in your comment and include your name and return address.

FOR FURTHER INFORMATION CONTACT: Cheryl Blundon, Regulations and Standards Branch, (703) 787-1607, to request additional information about this ICR. To see a copy of the entire ICR submitted to OMB, go to http://www.reginfo.gov (select Information Collection Review, Currently Under Review).

SUPPLEMENTARY INFORMATION: Title: 30 CFR 250, Subpart B, Plans and Information.

OMB Control Number: 1014-0024.

Abstract: The Outer Continental Shelf (OCS) Lands Act, as amended (43 U.S.C. 1334), authorizes the Secretary of the Interior to prescribe rules and regulations necessary for the administration of the leasing provisions of that act related to mineral resources on the OCS. Such rules and regulations will apply to all operations conducted under a lease, right-of-use and easement, or unit. Operations on the OCS must preserve, protect, and develop oil and natural gas resources in a manner that is consistent with the need to make such resources available to meet the Nation's energy needs as rapidly as possible; to balance orderly energy resource development with protection of human, marine, and coastal environments; to ensure the public a fair and equitable return on the resources of the OCS; and to preserve and maintain free enterprise competition.

In addition to the general rulemaking authority of the OCSLA at 43 U.S.C. 1334, section 301(a) of the Federal Oil and Gas Royalty Management Act (FOGRMA), 30 U.S.C. 1751(a), grants authority to the Secretary to prescribe such rules and regulations as are reasonably necessary to carry out FOGRMA's provisions. While the majority of FOGRMA is directed to royalty collection and enforcement, some provisions apply to offshore operations. For example, section 108 of FOGRMA, 30 U.S.C. 1718, grants the Secretary broad authority to inspect lease sites for the purpose of determining whether there is compliance with the mineral leasing laws. Section 109(c)(2) and (d)(1), 30 U.S.C. 1719(c)(2) and (d)(1), impose substantial civil penalties for failure to permit lawful inspections and for knowing or willful preparation or submission of false, inaccurate, or misleading reports, records, or other information. Because the Secretary has delegated some of the authority under FOGRMA to BSEE, 30 U.S.C. 1751 is included as additional authority for these requirements.

The Independent Offices Appropriations Act (31 U.S.C. 9701), the Omnibus Appropriations Bill (Pub. L. 104-133, 110 Stat. 1321, April 26, 1996), and OMB Circular A-25, authorize Federal agencies to recover the full cost of services that confer special benefits. Under the Department of the Interior's implementing policy, the Bureau of Safety and Environmental Enforcement (BSEE) is required to charge fees for services that provide special benefits or privileges to an identifiable non-Federal recipient above and beyond those which accrue to the public at large. Deepwater Operations Plans are subject to cost recovery, and BSEE regulations specify a service fee for this request.

Regulations implementing these responsibilities are under 30 CFR part 250, subpart B, and are among those delegated to BSEE. This request also covers any related Notices to Lessees and Operators (NTLs) that BSEE issues to clarify, supplement, or provide additional guidance on some aspects of our regulations.

Responses are mandatory or are required to obtain or retain a benefit. No questions of a sensitive nature are asked. BSEE protects information considered proprietary under the Freedom of Information Act (5 U.S.C. 552) and DOI's implementing regulations (43 CFR part 2), and under regulations at 30 CFR 250.197, Data and information to be made available to the public or for limited inspection, 30 CFR part 252, OCS Oil and Gas Information Program.

We collect the information required under this Subpart for:

§ 250.282—Post-Approval Requirements for the EP, DPP, and DOCD: While the information is submitted to BOEM, BSEE analyzes and evaluates the information and data collected under this section of subpart B to verify that an ongoing/completed OCS operation is/was conducted in compliance with established environmental standards placed on the activity.

§§ 250.286-295—Deepwater Operations Plan (DWOP): BSEE analyzes and evaluates the information and data collected under this section of subpart B to ensure that planned operations are safe; will not adversely affect the marine, coastal, or human environment; and will conserve the resources of the OCS. We use the information to make an informed decision on whether to approve the proposed deepwater operations plans (DWOPs), or whether modifications are necessary without the analysis and evaluation of the required information.

Frequency: On occasion and as required by regulation.

Description of Respondents: Potential respondents comprise OCS Federal oil, gas, or sulphur lessees and/or operators.

Estimated Reporting and Recordkeeping Hour Burden: The estimated annual hour burden for this information collection is a total of 37,084 hours. The following chart details the individual components and estimated hour burdens. In calculating the burdens, we assumed that respondents perform certain requirements in the normal course of their activities. We consider these to be usual and customary and took that into account in estimating the burden.

Burden Table
Citation 30 CFR 250 Subpart B and NTLs | Reporting and recordkeeping requirement * | Non-hour cost burdens *: Hour burden | Non-hour cost burdens *: Average number of annual responses annual | Non-hour cost burdens *: Burden hours
201; 204; 205 | General requirements for plans and information; service fees; confirmations; etc | Burden included with specific requirements below. |  | 0
Post-Approval Requirements for the EP, DPP, and DOCD
[for BSEE applications/permits that include drilling, workovers, production, pipelay, facility installation, and decommissioning, etc.]
282 | Retain monitoring data/information; upon request, make available to BSEE Submit monitoring plan for approval. | All information that is submitted from industry is received by BOEM. Industry's hour burdens for these regulatory requirements are covered under 30 CFR
282(b) | Submit monitoring reports and data. | part 550, subpart B, 1010-0151. BSEE's Environmental Compliance Program reviews all monitoring plans and reports to verify industry's compliance.
Submit DWOPs and Conceptual Plans
287; 291; 292 | Submit DWOP and accompanying/supporting information | 1,140 | 11 plans | 12,540
|  | $3,599 × 11 = $39,589
288; 289 | Submit a Conceptual Plan for approval | 375 | 8 plans | 3,000
294 | Submit a combined Conceptual Plan/DWOP for approval before deadline for submitting Conceptual Plan | 748 | 27 plans | 20,196
295 | Submit a revised Conceptual Plan or DWOP for approval within 60-day of material change | 180 | 7 plan revisions | 1,260
Subtotal |  |  | 53 responses | 36,996
|  |  | $39,589 non-hour costs
200 thru 295 | General departure and alternative compliance requests not specifically covered elsewhere in subpart B regulations | 8 | 11 requests | 88
Subtotal |  |  | 11 responses | 88
Total Burden |  |  | 399 responses | 37,084
|  |  | $39,589 Non-Hour Cost Burdens

Estimated Reporting and Recordkeeping Non-Hour Cost Burden: We have identified one non-hour cost associated with this IC; DWOP's ($3,599) under § 250.292, and estimate that the annual total non-hour cost burden is $39,589. We have not identified any other non-hour cost burdens associated with this collection of information.

Public Disclosure Statement: The PRA (44 U.S.C. 3501, et seq.,) provides that an agency may not conduct or sponsor a collection of information unless it displays a currently valid OMB control number. Until OMB approves a collection of information, you are not obligated to respond.

Comments: Section 3506(c)(2)(A) of the PRA (44 U.S.C. 3501, et seq.,) requires each agency “. . . to provide notice . . . and otherwise consult with members of the public and affected agencies concerning each proposed collection of information . . .” Agencies must specifically solicit comments to: (a) Evaluate whether the collection is necessary or useful; (b) evaluate the accuracy of the burden of the proposed collection of information; (c) enhance the quality, usefulness, and clarity of the information to be collected; and (d) minimize the burden on the respondents, including the use of technology.

To comply with the public consultation process, on May 22, 2015, we published a Federal Register notice (80 FR 29736) announcing that we would submit this ICR to OMB for approval. The notice provided the required 60-day comment period. In addition, § 250.199 provides the OMB Control Number for the information collection requirements imposed by the 30 CFR part 250, subpart B regulations. The regulation also informs the public that they may comment at any time on the collections of information and provides the address to which they should send comments. We received one comment in response to the Federal Register notice. The comment from a private citizen pertained to why weren't plans submitted electronically thereby reducing the paperwork burden and would also assist in retention of such plans. BSEE's response: Since the split, some plans have been transferred to BOEM under 30 CFR part 550 and some to BSEE. As to the plans that are submitted to BSEE, we are developing requirements for a new ePlans and ePermits (electronic submittal) project that does include Deepwater Operations Plans (DWOPs) that should start in development by FY 2016.

Public Availability of Comments: Before including your address, phone number, email address, or other personal identifying information in your comment, you should be aware that your entire comment—including your personal identifying information—may be made publicly available at any time. While you can ask us in your comment to withhold your personal identifying information from public review, we cannot guarantee that we will be able to do so.

Dated: August 5, 2015.
Robert W. Middleton,
Deputy Chief, Office of Offshore Regulatory Programs.

[FR Doc. 2015-21725 Filed 9-1-15; 8:45 am]

BILLING CODE 4310-VH-P